DEPARTMENT OF ENERGY

Federal Energy Regulatory Commission

18 CFR Part 292

Regulations Under Sections 201 and 210 of the Public Utility Regulatory Policies Act of 1978 With Regard to Small Power Production and Cogeneration

CFR Correction

In Title 18 of the Code of Federal Regulations, Parts 1 to 399, revised as of April 1, 2013, on page 862, in § 292.303, in paragraph (c)(1), the word “costs” is removed from the first sentence and added to the last sentence after “interconnection”.

[FR Doc. 2014-01293 Filed 1-21-14; 8:45 am]

BILLING CODE 1505-01-D